DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Relco Locomotives, Inc.; (Waiver Petition Docket Number FRA-2000-7256)

Relco Locomotives, Inc., submitted a request on behalf of Aimcor, Inc., seeking a permanent waiver of compliance from certain provisions of the Safety Glazing Standards, 49 CFR 223.9, which requires certified glazing, for two locomotives utilized in switching service in Port Arthur, Texas. The locomotives are identified as RE 1267 and RE 1270. Relco indicates that both locomotives are used for switching within Aimcor's facility located at the north end of Houston Avenue in Port Arthur. The locomotives also operate over a Union Pacific Railroad (UP) industrial track within the port facility. The industrial track is used by Aimcor, Rail Serve, and UP for movements between different areas of the port.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2000-7256) and must be submitted to the Docket Clerk, DOT Docket Management Facility, Room PL-401 (Plaza Level), 400 7th Street, SW, Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on May 25, 2000.
Grady C. Cothen, Jr.,
Deputy Associate Administrator for Safety Standards and Program Development.

[FR Doc. 00-14063 Filed 6-5-00; 8:45 am]

BILLING CODE 4910-06-P